DEPARTMENT OF COMMERCE

Foreign-Trade Zones Board

[Order No. 1943]

Reorganization of Foreign-Trade Zone 60; Under Alternative Site Framework; Nogales, Arizona

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Nogales-Santa Cruz Economic Development Foundation, Inc., grantee of Foreign-Trade Zone 60, submitted an application to the Board (FTZ Docket B-24-2014, docketed 03/12/2014) for authority to reorganize under the ASF with a service area of Santa Cruz County, Arizona, in and adjacent to the Nogales-Mariposa U.S. Customs and Border Protection port of entry, and FTZ 60's existing Sites 1 and 2 would be categorized as magnet sites and existing Site 3 would be categorized as a usage-driven site;

Whereas, notice inviting public comment was given in the Federal Register (79 FR 15098-15099, 03/18/2014) and the application has been processed pursuant to the FTZ Act and the Board's regulations; and,

Whereas, the Board adopts the findings and recommendations of the examiner's report, and finds that the requirements of the FTZ Act and the Board's regulations are satisfied;

Now, therefore, the Board hereby orders:

The application to reorganize FTZ 60 under the ASF is approved, subject to the FTZ Act and the Board's regulations, including Section 400.13, to the Board's standard 2,000-acre activation limit for the zone, and to a five-year ASF sunset provision for magnet sites that would terminate authority for Sites 1 and 2 if not activated by July 31, 2019, and to a three-year ASF sunset provision for usage-driven sites that would terminate authority for Site 3 if no foreign-status merchandise is admitted for a bona fide customs purpose by July 31, 2017.

Signed at Washington, DC, this 17th day of July 2014.
Paul Piquado
Assistant Secretary of Commerce for Enforcement and Compliance, Alternate Chairman, Foreign-Trade Zones Board.

[FR Doc. 2014-18066 Filed 7-30-14; 8:45 am]

BILLING CODE 3510-DS-P